DEPARTMENT OF ENERGY

Federal Energy Regulatory Commission

Combined Notice of Filings #2

Take notice that the Commission received the following electric corporate filings:

Docket Numbers: EC12-114-000.

Applicants: Dominion Energy Salem Harbor, LLC, Footprint Power Acquisitions LLC, Footprint Power Real Estate LP, Footprint Salem Harbor Operations LLC.

Description: FPA Section 203 Application of Footprint Power Acquisitions LLC, et al. and Request for Expedited Consideration.

Filed Date: 6/29/12.

Accession Number: 20120629-5232.

Comments Due: 5 p.m. ET 7/20/12.

Take notice that the Commission received the following exempt wholesale generator filings:

Docket Numbers: EG12-81-000.

Applicants: Blue Sky East, LLC.

Description: Notice of Self-Certification of Exempt Wholesale Generator Status of Blue Sky East, LLC.

Filed Date: 6/29/12.

Accession Number: 20120629-5152.

Comments Due: 5 p.m. ET 7/20/12.

Docket Numbers: EG12-82-000.

Applicants: Meadow Creek Project Company LLC.

Description: Self-Certification of EWG Status of Meadow Creek Project Company LLC.

Filed Date: 6/29/12.

Accession Number: 20120629-5217.

Comments Due: 5 p.m. ET 7/20/12.

Take notice that the Commission received the following electric rate filings:

Docket Numbers: ER10-2130-004.

Applicants: Forward Energy LLC.

Description: Triennial Report of Forward Energy LLC.

Filed Date: 6/29/12.

Accession Number: 20120629-5105.

Comments Due: 5 p.m. ET 8/28/12.

Docket Numbers: ER10-2136-004.

Applicants: Invenergy Cannon Falls LLC.

Description: Triennial Report Invenergy Cannon Falls LLC.

Filed Date: 6/29/12.

Accession Number: 20120629-5113.

Comments Due: 5 p.m. ET 8/28/12.

Docket Numbers: ER10-2405-002; ER10-2407-002; ER10-2425-002; ER10-2424-002.

Applicants: High Prairie Wind Farm II, LLC, Pioneer Prairie Wind Farm I, LLC, Rail Splitter Wind Farm, LLC, Lost Lakes Wind Farm LLC.

Description: Updated market power analysis of High Prairie Wind Farm II, LLC, Lost Lakes Wind Farm LLC, Pioneer Prairie Wind Farm I, LLC, and Rail Splitter Wind Farm, LLC.

Filed Date: 6/29/12.

Accession Number: 20120629-5101.

Comments Due: 5 p.m. ET 8/28/12.

Docket Numbers: ER10-2431-002; ER10-2434-002; ER10-2467-002; ER11-3731-002; ER10-2436-002 .

Applicants: Wapsipinicon Wind Project, LLC, Hoosier Wind Project, LLC, Chanarambie Power Partners, LLC, Fenton Power Partners I, LLC, LWP Lessee, LLC.

Description: Triennial Market Power Analysis Update of enXco Central Region Companies.

Filed Date: 6/29/12.

Accession Number: 20120629-5119.

Comments Due: 5 p.m. ET 8/28/12.

Docket Numbers: ER10-2563-001.

Applicants: Wisconsin Electric Power Company.

Description: Wisconsin Electric Power Company's Triennial Market Power Analysis Report for 2012.

Filed Date: 6/29/12.

Accession Number: 20120629-5211.

Comments Due: 5 p.m. ET 8/28/12.

Docket Numbers: ER10-2616-002; ER10-2586-001; ER10-2647-002.

Applicants: Dynegy Marketing and Trade, LLC, Dynegy Midwest Generation, LLC, Dynegy Power Marketing, LLC.

Description: Market Power Analysis of Dynegy Marketing and Trade, LLC, et al.

Filed Date: 6/29/12.

Accession Number: 20120629-5139.

Comments Due: 5 p.m. ET 8/28/12.

Docket Numbers: ER10-2738-002.

Applicants: The Empire District Electric Company.

Description: Updated Market Power Analysis of The Empire District Electric Company.

Filed Date: 6/29/12.

Accession Number: 20120629-5138.

Comments Due: 5 p.m. ET 8/28/12.

Docket Numbers: ER10-2985-003; ER10-3049-004; ER10-3051-004.

Applicants: Champion Energy Marketing LLC, Champion Energy Services, LLC, Champion Energy, LLC.

Description: Updated Market Power Analysis for the Central Region of Champion Energy Marketing LLC, et al.

Filed Date: 6/29/12.

Accession Number: 20120629-5216.

Comments Due: 5 p.m. ET 8/28/12.

Docket Numbers: ER10-2994-006; ER12-2075-001; ER12-2076-001; ER12-2077-001; ER12-2078-001; ER12-2081-001; ER12-2083-001; ER12-2084-001; ER12-2086-001; ER12-2108-001; ER12-2097-001; ER12-2101-001; ER12-2102-001; ER12-2109-001; ER12-2106-001; ER12-2107-001.

Applicants: MinnDakota Wind LLC, Northern Iowa Windpower II LLC, Flying Cloud Power Partners, LLC, Moraine Wind LLC, Trimont Wind I LLC, Barton Windpower LLC, Elm Creek Wind, LLC, Farmers City Wind, LLC, Buffalo Ridge I LLC, Moraine Wind II LLC, Buffalo Ridge II LLC, Elm Creek Wind II LLC, Atlantic Renewable Projects II LLC, New Harvest Wind Project LLC, Rugby Wind LLC, Iberdrola Renewables, LLC.

Description: Updated Market Power Analysis of Iberdrola Renewables, LLC, et al. for the Central Region.

Filed Date: 6/29/12.

Accession Number: 20120629-5135.

Comments Due: 5 p.m. ET 8/28/12.

Docket Numbers: ER10-3079-003; ER12-126-005.

Applicants: Tyr Energy, LLC, Trademark Merchant Energy, LLC.

Description: Updated market power analysis for Tyr Energy, LLC, et al.

Filed Date: 6/29/12.

Accession Number: 20120629-5086.

Comments Due: 5 p.m. ET 8/28/12.

Docket Numbers: ER11-3084-003; ER11-3097-003; ER12-1010-001; ER10-1186-002; ER10-1277-002; ER10-1211-002; ER10-1188-002.

Applicants: The Detroit Edison Company, DTE Energy Trading, Inc., DTE River Rouge No. 1, LLC, DTE Energy Supply, Inc., DTE East China, LLC, DTE Pontiac North, LLC, DTE Stoneman, LLC.

Description: Updated Market Power Analysis of The Detroit Edison Company, et al.

Filed Date: 6/29/12.

Accession Number: 20120629-5074.

Comments Due: 5 p.m. ET 8/28/12.

Docket Numbers: ER11-4044-005.

Applicants: Gratiot County Wind LLC.

Description: Triennial Report of Gratiot County Wind LLC.

Filed Date: 6/29/12.

Accession Number: 20120629-5108.

Comments Due: 5 p.m. ET 8/28/12.

Docket Numbers: ER11-4046-004

Applicants: Gratiot County Wind II LLC.

Description: Triennial Report of Gratiot County Wind II LLC.

Filed Date: 6/29/12.

Accession Number: 20120629-5106.

Comments Due: 5 p.m. ET 8/28/12.

Docket Numbers: ER12-164-003.

Applicants: Bishop Hill Energy III LLC.

Description: Triennial Report of Bishop Hill Energy III LLC.

Filed Date: 6/29/12.

Accession Number: 20120629-5111.

Comments Due: 5 p.m. ET 8/28/12.

Docket Numbers: ER12-645-004.

Applicants: California Ridge Wind Energy LLC.

Description: Triennial Report of California Ridge Wind Energy LLC.

Filed Date: 6/29/12.

Accession Number: 20120629-5112.

Comments Due: 5 p.m. ET 8/28/12.

Docket Numbers: ER12-1403-002.

Applicants: Consolidated Edison Company of New York, Inc.

Description: Amendment of RY3 filing to be effective 4/1/2012.

Filed Date: 6/29/12.

Accession Number: 20120629-5096.

Comments Due: 5 p.m. ET 7/20/12.

Docket Numbers: ER12-2145-000.

Applicants: EC&R O&M LLC.

Description: Application for Market-Based Rate Authority to be effective 6/29/2012.

Filed Date: 6/29/12.

Accession Number: 20120629-5069.

Comments Due: 5 p.m. ET 7/20/12.

Docket Numbers: ER12-2146-000

Applicants: Interstate Power and Light Company

Description: Cancellation of IPL and Vienna Wind LBA Agreement to be effective 9/1/2012.

Filed Date: 6/29/12

Accession Number: 20120629-5090

Comments Due: 5 p.m. ET 7/20/12

Docket Numbers: ER12-2147-000

Applicants: Pacific Gas and Electric Company

Description: Amendment to Extend the PG&E-NCPA Interconnection Agreement to be effective 8/31/2012.

Filed Date: 6/29/12

Accession Number: 20120629-5107

Comments Due: 5 p.m. ET 7/20/12

Docket Numbers: ER12-2148-000

Applicants: ITC Midwest LLC

Description: Filing of an Interconnection Agreement with Archer-Daniels-Midland Co. to be effective 8/29/2012.

Filed Date: 6/29/12

Accession Number: 20120629-5122

Comments Due: 5 p.m. ET 7/20/12

Docket Numbers: ER12-2149-000

Applicants: Pacific Gas and Electric Company

Description: Amendment to Extend the PG&E—SVP Interconnection Agreement to be effective 8/31/2012.

Filed Date: 6/29/12

Accession Number: 20120629-5127

Comments Due: 5 p.m. ET 7/20/12

Docket Numbers: ER12-2150-000

Applicants: Plains and Eastern Clean Line LLC, Plains and Eastern Clean Line Oklahoma LLC

Description: Application of Plains and Eastern Clean Line LLC and Plains and Eastern Clean Line Oklahoma LLC for Authorization to Sell Transmission Services at Negotiated Rates and for Related Relief.

Filed Date: 6/29/12

Accession Number: 20120629-5129

Comments Due: 5 p.m. ET 7/20/12

Docket Numbers: ER12-2151-000

Applicants: Northern States Power Company, a Minnesota Corporation

Description: 2012-6-29—SS Const Agrmt-283-NSP to be effective 6/5/2012.

Filed Date: 6/29/12

Accession Number: 20120629-5131

Comments Due: 5 p.m. ET 7/20/12

Docket Numbers: ER12-2152-000

Applicants: PJM Interconnection, L.L.C.

Description: Original Service Agreement No. 3335; Queue No. X1-034 to be effective 6/7/2012.

Filed Date: 6/29/12

Accession Number: 20120629-5134

Comments Due: 5 p.m. ET 7/20/12

Docket Numbers: ER12-2153-000

Applicants: Golden Spread Electric Cooperative, Inc.

Description: 2012 Annual Update and Amendment to be effective 6/30/2012.

Filed Date: 6/29/12

Accession Number: 20120629-5147

Comments Due: 5 p.m. ET 7/20/12

Docket Numbers: ER12-2154-000

Applicants: PacifiCorp

Description: OATT Attachment N to be effective 8/29/2012.

Filed Date: 6/29/12

Accession Number: 20120629-5158

Comments Due: 5 p.m. ET 7/20/12

Docket Numbers: ER12-2155-000

Applicants: PJM Interconnection, L.L.C.

Description: Filing of First Revised Service Agreement No. 3144; Queue No. W2-056 to be effective 6/12/2012.

Filed Date: 6/29/12

Accession Number: 20120629-5169

Comments Due: 5 p.m. ET 7/20/12

Docket Numbers: ER12-2156-000

Applicants: Midwest Independent Transmission System, ITC Midwest LLC

Description: SA 2453 ITC Midwest—Northern States to be effective 8/29/2012.

Filed Date: 6/29/12

Accession Number: 20120629-5171

Comments Due: 5 p.m. ET 7/20/12

Docket Numbers: ER12-2157-000

Applicants: Southwest Power Pool, Inc.

Description: 2198R2 Kansas Power Pool NITSA NOA to be effective 6/1/2012.

Filed Date: 6/29/12

Accession Number: 20120629-5175

Comments Due: 5 p.m. ET 7/20/12

Docket Numbers: ER12-2158-000

Applicants: Interstate Power and Light Company

Description: IPL Changes in Depreciation Rates for Wholesale Production Service to be effective 7/1/2012.

Filed Date: 6/29/12

Accession Number: 20120629-5176

Comments Due: 5 p.m. ET 7/20/12

Docket Numbers: ER12-2159-000

Applicants: Canadian Hills Wind, LLC

Description: Application for Market-Based Rate Authority and baseline tariff to be effective 8/28/2012.

Filed Date: 6/29/12

Accession Number: 20120629-5179

Comments Due: 5 p.m. ET 7/20/12

Docket Numbers: ER12-2160-000

Applicants: Southwest Power Pool, Inc.

Description: 1166R16 Oklahoma Municipal Power Authority NITSA NOA to be effective 6/1/2012.

Filed Date: 6/29/12

Accession Number: 20120629-5182

Comments Due: 5 p.m. ET 7/20/12

Docket Numbers: ER12-2161-000

Applicants: Duke Energy Carolinas, LLC

Description: Amendment to Formula Rate (June 2012) to be effective 6/1/2011.

Filed Date: 6/29/12

Accession Number: 20120629-5186

Comments Due: 5 p.m. ET 7/20/12

Docket Numbers: ER12-2162-000

Applicants: Southwest Power Pool, Inc.

Description: 2379 Flat Ridge 2 Wind Energy, LLC Meter Agent Agreement to be effective 6/1/2012.

Filed Date: 6/29/12

Accession Number: 20120629-5190

Comments Due: 5 p.m. ET 7/20/12

Docket Numbers: ER12-2163-000

Applicants: Southwest Power Pool, Inc.

Description: 1636R8 Kansas Electric Power Cooperative, Inc. to be effective 6/1/2012.

Filed Date: 6/29/12

Accession Number: 20120629-5192

Comments Due: 5 p.m. ET 7/20/12

Docket Numbers: ER12-2164-000

Applicants: Florida Power & Light Company

Description: FPL Revisions to LCEC Rate Schedule FERC No. 312 to be effective 1/1/2011.

Filed Date: 6/29/12

Accession Number: 20120629-5197

Comments Due: 5 p.m. ET 7/20/12

Docket Numbers: ER12-2165-000

Applicants: Florida Power & Light Company

Description: FPL Revisions to LCEC Rate Schedule FERC No. 317 to be effective 1/1/2014.

Filed Date: 6/29/12

Accession Number: 20120629-5199

Comments Due: 5 p.m. ET 7/20/12

Docket Numbers: ER12-2166-000

Applicants: Southwest Power Pool, Inc.

Description: Southwest Power Pool, Inc.'s Notice of Cancellation.

Filed Date: 6/29/12

Accession Number: 20120629-5209

Comments Due: 5 p.m. ET 7/20/12

Docket Numbers: ER12-2167-000

Applicants: Southwest Power Pool, Inc.

Description: Southwest Power Pool, Inc.'s Notice of Cancellation.

Filed Date: 6/29/12

Accession Number: 20120629-5212

Comments Due: 5 p.m. ET 7/20/12

Docket Numbers: ER12-2168-000

Applicants: Southwest Power Pool, Inc.

Description: Southwest Power Pool, Inc.'s Notice of Cancellation of Large Generator Interconnection Agreement.

Filed Date: 6/29/12

Accession Number: 20120629-5214

Comments Due: 5 p.m. ET 7/20/12

Take notice that the Commission received the following public utility holding company filings:

Docket Numbers: PH12-18-000

Applicants: Citizens Energy Corporation

Description: Waiver Notification of Status as Single-State Holding Company System of Citizens Energy Corporation (FERC65-B).

Filed Date: 6/29/12

Accession Number: 20120629-5118

Comments Due: 5 p.m. ET 7/20/12

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2012.
Nathaniel J. Davis, Sr.,
Deputy Secretary.

[FR Doc. 2012-16868 Filed 7-10-12; 8:45 am]

BILLING CODE 6717-01-P